DEPARTMENT OF COMMERCE

Foreign-Trade Zones Board

[B-75-2018]

Foreign-Trade Zone (FTZ) 87—Lake Charles, Louisiana; Authorization of Production Activity, Driftwood LNG, LLC (Liquified Natural Gas Processing), Sulphur, Louisiana

On November 16, 2018, the Lake Charles Harbor and Terminal District, grantee of FTZ 87, submitted a notification of proposed production activity to the FTZ Board on behalf of Driftwood LNG, LLC, within Subzone 87G, in Sulphur, Louisiana.

The notification was processed in accordance with the regulations of the FTZ Board (15 CFR part 400), including notice in the Federal Register inviting public comment (83 FR 59358, November 23, 2018). On April 25, 2019, the applicant was notified of the FTZ Board's decision that no further review of the activity is warranted at this time. The production activity described in the notification was authorized, subject to the FTZ Act and the FTZ Board's regulations, including Section 400.14.

Dated: April 25, 2019.
Andrew McGilvray,
Executive Secretary.

[FR Doc. 2019-08712 Filed 4-29-19; 8:45 am]

BILLING CODE 3510-DS-P